MORRIS K. AND STEWART L. UDALL FOUNDATION

Sunshine Act Meetings

TIME AND DATE: Electronic Board Meeting to be held via email exchanges Thursday, July 8, 2021, 8:00 a.m. (PDT), through Wednesday, July 21, 2021.

PLACE: Board of Trustees Meeting held via email.

STATUS: This special meeting of the Board of Trustees, to be held Electronically (in accordance with the Operating Procedures of the Board of Trustees of the Morris K. Udall and Stewart L. Udall Foundation), is open to the public. Members of the public who would like to participate in this electronic meeting should email Elizabeth E. Monroe, Executive Assistant, Morris K. Udall and Stewart L. Udall Foundation, at monroe@udall.gov, no later than Thursday, July 8, 2021, 8:00 a.m. (PDT).

MATTERS TO BE CONSIDERED: Draft Udall Foundation 2022-2026 Strategic Plan.

CONTACT PERSON FOR MORE INFORMATION: David P. Brown, Executive Director, 130 South Scott Avenue, Tucson, AZ 85701, (520) 901-8500.

Dated: June 24, 2021.
David P. Brown,
Executive Director, Morris K. Udall and Stewart L. Udall Foundation, and Federal Register Liaison Officer.

[FR Doc. 2021-13871 Filed 6-24-21; 4:15 pm]

BILLING CODE 6820-FN-P